DEPARTMENT OF HOMELAND SECURITY

Federal Emergency Management Agency

44 CFR Part 67

[Docket No. FEMA-D-7826]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding these proposed regulatory flood elevations. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before January 30, 2008.

ADDRESSES: The corresponding preliminary Flood Insurance Rate Map (FIRM) for the proposed BFEs for each community are available for inspection at the community's map repository. The respective addresses are listed in the table below.

You may submit comments, identified by Docket No. FEMA-D-7826, to William R. Blanton, Jr., Chief, Engineering Management Section, Mitigation Directorate, Federal Emergency Management Agency, 500 C Street, SW., Washington, DC 20472.

FOR FURTHER INFORMATION CONTACT: William R. Blanton, Jr., Chief, Engineering Management Section, Mitigation Directorate, Federal Emergency Management Agency, 500 C Street, SW., Washington, DC 20472.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001, et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001, et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Clarke County, Alabama, and Incorporated Areas
Alabama River | 459 feet upstream of the intersection of Reedy Creek and Cross Section A | None | +35 | Unincorporated Areas of Clarke County.
| 2439 ft downstream of Intersection of Alabama River and Silver Creek Lake Road | None | +61
East Basset Creek | The point where East Basset Creek and County Highway 15 intersects | None | +34 | Unincorporated Areas of Clarke County.
| 10906 ft upstream of the intersection of East Bassett Creek & County Highway 15 | None | +45
Tombigbee River | 1332 feet downstream of the intersection of Tombigbee River and Southern Railway | None | +35 | Unincorporated Areas of Clarke County.
| 3783 feet downstream of the intersection of Tombigbee River and U.S. Highway 43 | None | +36
* National Geodetic Vertical Datum.
# Depth in feet above ground.
+ North American Vertical Datum.
Send comments to William R. Blanton, Jr., Chief, Engineering Management Section, Mitigation Directorate, Federal Emergency Management Agency, 500 C Street, SW., Washington, DC 20472.
ADDRESSES
Unincorporated Areas of Clarke County
Maps are available for inspection at 114 Court Street, Grove Hill, AL 36451.
Elmore County, Alabama, and Incorporated Areas
Alabama River | At U.S. Highway 82 | None | +161 | City of Prattville.
| Where Interstate 65 crosses Still Creek | None | +163
Coosa River | 810 feet upstream of confluence with Taylor Creek | None | +180 | City of Wetumpka.
| 800 feet upstream of confluence with Taylor Creek | None | +180
Coosada Creek | 4270 feet downstream of Springdale Road | None | +202 | City of Millbrook.
| On Springdale Road | None | +216
Coosada Creek | 685 feet upstream of Airport Road | None | +201 | Town of Coosada.
| 695 feet upstream of Airport Road | None | +201
Cottonford Creek | 4590 feet downstream of Deatsville Highway | None | +261 | City of Millbrook.
| 2760 feet downstream of Deatsville Highway | None | +269
Cottonford Creek | 290 feet upstream of confluence with Mortar Creek | None | +169 | Town of Coosada.
| 300 feet upstream of confluence with Mortar Creek | None | +169
Crescant Lake | 2600 feet upstream of Interstate 65 on Still Creek | None | +164 | City of Millbrook.
| 2610 feet upstream of Interstate 65 on Still Creek | None | +164
Grandview Branch | 2780 feet downstream of State Highway 14 | None | +271 | City of Millbrook.
| 260 feet downstream of State Highway 14 | None | +304
Gravel Pit Creek | Under U.S. 231 | None | +170 | Unincorporated Areas of Elmore County City of Millbrook.
| 5890 feet upstream of U.S. 231 | None | +319
Jackson Branch | 390 feet west of Sandtown Road and Phillips Drive | None | +165
| 410 feet downstream of Louisville and Nashville RR on Alabama River | None | +165
Jackson Branch | 1270 feet downstream of confluence with Zion Branch | None | +165 | Town of Coosada.
| 1280 feet downstream of confluence with Zion Branch | None | +165
Lewis Creek | 740 feet downstream of Friendship Road | None | +234 | City of Tallassee.
| 1370 feet upstream of Friendship Road | None | +316
Mill Creek | 110 feet downstream of Old Mill Run | None | +213 | City of Millbrook.
| 120 feet downstream of Old Mill Run | None | +213
Tributary | 350 feet upstream of confluence with Mill Creek | None | +206 | City of Millbrook.
| 1480 feet upstream of confluence with Mill Creek | None | +208
Mortar Creek | 710 feet downstream of confluence with Cottonford Creek | None | +168 | Town of Coosada.
| At confluence with Cottonford Creek | None | +169
Still Creek | 210 feet downstream of Edgewood Road | None | +174 | City of Millbrook.
| 470 feet upstream of Edgewood Road | None | +185
* National Geodetic Vertical Datum.
# Depth in feet above ground.
+ North American Vertical Datum.
Send comments to William R. Blanton, Jr., Chief, Engineering Management Section, Mitigation Directorate, Federal Emergency Management Agency, 500 C Street, SW., Washington, DC 20472.
ADDRESSES
City of Millbrook
Maps are available for inspection at 3390 Main Street, Millbrook, AL 36054.
City of Prattville
Maps are available for inspection at 101 West Main Street, Prattville, AL 36067.
City of Tallassee
Maps are available for inspection at 3 Freeman Avenue, Tallassee, AL 36078.
City of Wetumpka
Maps are available for inspection at 212 S. Main Street, Wetumpka, AL 36067.
Town of Coosada
Maps are available for inspection at 5800 Coosada Road, Coosada, AL 36020.
Unincorporated Areas of Elmore County
Maps are available for inspection at 100 Commerce Street, Room 207, Wetumpka, AL 36092.
Navajo County, Arizona, and Incorporated Areas
Cottonwood Wash | Approximately 150 feet upstream of confluence with Silver Creek | None | +5568 | Town of Snowflake, Town of Taylor.
| Approximately 3.18 miles upstream of Paper Mill Road | None | +5747
Split Flow | Approximately 300 feet upstream of confluence with Cottonwood Wash | None | +5647 | Town of Snowflake, Town of Taylor.
| Approximately 0.65 mile upstream of confluence with Cottonwood Wash | None | +5666
Hog Wash | Approximately 1,300 feet downstream of Hilltop Road | None | +6057 | Unincorporated Areas of Navajo County.
| Approximately 1,440 feet upstream of Deuces Wild Road | None | +6280
Tributary | Approximately 200 feet upstream of confluence with Hog Wash | None | +6143 | City of Show Low, Unincorporated Areas of Navajo County.
| Approximately 0.50 mile upstream of Smith Ranch Road | None | +6224
Linden Draw | Approximately 2.20 miles downstream of School House Lane | None | +6089 | Unincorporated Areas of Navajo County.
| Approximately 0.71 mile upstream of Mission Lane | None | +6306
Tributary | Approximately 100 feet upstream of confluence with Linden Draw | None | +6189 | Unincorporated Areas of Navajo County.
| Approximately 1,200 feet upstream of Burton Drive | None | +6276
* National Geodetic Vertical Datum.
# Depth in feet above ground.
+ North American Vertical Datum.
Send comments to William R. Blanton, Jr., Chief, Engineering Management Section, Mitigation Directorate, Federal Emergency Management Agency, 500 C Street SW., Washington, DC 20472.
ADDRESSES
City of Show Low
Maps are available for inspection at 550 N. 9th Place, Show Low, AZ 85901.
Town of Snowflake
Maps are available for inspection at 81 West First Street, Snowflake, AZ 85937.
Town of Taylor
Maps are available for inspection at 425 Papermill Road, Taylor, AZ 85939.
Unincorporated Areas of Navajo County
Maps are available for inspection at 465 First Avenue, Holbrook, AZ 86025.
Labette County, Kansas, and Incorporated Areas
Bachelor Creek | Approximately 0.81 mile upstream of confluence with Labette Creek | None | +855 | Unincorporated Areas of Labette County.
| Approximately 1.4 miles upstream of Ness Road | None | +888
Labette Creek | Approximately 0.74 mile downstream of Southern Avenue | None | +864 | City of Parsons, Unincorporated Areas of Labette County.
| Approximately 2.2 miles upstream of MKT Railroad | None | +892
Labette Creek | Approximately 0.38 mile downstream of confluence with Bachelor Creek | None | +855 | Unincorporated Areas of Labette County.
| Approximately 3.03 miles upstream of confluence with Bachelor Creek | None | +858
Tributary A | Approximately 0.95 mile downstream of Rooks Road | None | +856 | Unincorporated Areas of Labette County.
| Approximately 0.44 mile upstream of Rooks Road | None | +866 |
Tributary B | Approximately 0.75 mile upstream of confluence with Labette Creek | None | +859 | Unincorporated Areas of Labette County.
| Approximately 1.07 miles upstream of Queens Road | None | +888 |
Little Labette Creek | Approximately 0.27 mile downstream of MKT Railroad | None | +865 | City of Parsons, Unincorporated Areas of Labette County.
| Approximately 0.45 mile upstream of U.S. Highway 160 | None | +907 |
Tributary A | Approximately 0.19 mile upstream of confluence with Little Labette Creek | None | +885 | Unincorporated Areas of Labette County.
| Approximately 1.30 miles upstream of Meade Road | None | +903 |
Tributary B | Approximately 500 feet upstream of confluence with Little Labette Creek | None | +897 | Unincorporated Areas of Labette County.
| Approximately 0.23 mile upstream of U.S. Highway 160 | None | +903 |
Tolen Creek | Approximately 0.38 mile upstream of confluence with Labette Creek | None | +880 | City of Parsons, Unincorporated Areas of Labette County.
| Approximately 0.32 mile upstream of Pratt Road | None | +891 |
Tributary A | Approximately 0.11 mile upstream of confluence of Tolen Creek | None | +883 | City of Parsons, Unincorporated Areas of Labette County.
| Appromimately 1.46 miles upstream of U.S. Highway 160 | None | +901 |
* National Geodetic Vertical Datum.
# Depth in feet above ground.
+ North American Vertical Datum.
Send comments to William R. Blanton, Jr., Chief, Engineering Management Section, Mitigation Directorate, Federal Emergency Management Agency, 500 C Street SW., Washington, DC 20472.
ADDRESSES
City of Parsons
Maps are available for inspection at 112 South 17th Street, Parsons, KS 67357.
Unincorporated Areas of Labette County
Maps are available for inspection at 501 Merchant Street, Oswego, KS 67356.
Lyon County, Minnesota, and Incorporated Areas
County Ditch No. 63 | Approximately 5,190 feet downstream of County Road 8 | None | +1150 | Unincorporated Areas of Lyon County, City of Ghent.
| Approximately 60 feet upstream of 310th Street | None | +1167 |
Meadow Creek | At County Boundary | None | +1122 | Unincorporated Areas of Lyon County.
| Approximately 2,735 feet upstream from County Road 7 | None | +1185 |
Meadow Creek Overflow Channel | At confluence with Meadow Creek | None | +1185 | Unincorporated Areas of Lyon County.
| Approximately 340 feet upstream of State Highway 23 | None | +1189 |
Redwood River | At County Boundary | None | +1067 | Unincorporated Areas of Lyon County, City of Lynd, City of Marshall, City of Russell.
| Approximately 225 feet upstream of State Highway 23 | None | +1516 |
South Branch Yellow Medicine River | At confluence with Yellow Medicine River | None | +1119 | Unincorporated Areas of Lyon County, City of Minneota.
| Approximately 1,495 feet upstream of West Lyon Street | None | +1170 |
Three Mile Creek | At confluence with Redwood River | None | +1081 | Unincorporated Areas of Lyon County.
| Approximately 4,880 feet upstream from State Highway 68 | None | +1158 |
Yellow Medicine River | Approximately 3,295 feet downstream of County Boundary | None | +1094 | Unincorporated Areas of Lyon County.
| At Lyon Lincoln Road | None | +1167 |
* National Geodetic Vertical Datum.
# Depth in feet above ground.
+ North American Vertical Datum.
Send comments to William R. Blanton, Jr., Chief, Engineering Management Section, Mitigation Directorate, Federal Emergency Management Agency, 500 C Street SW., Washington, DC 20472.
ADDRESSES
City of Ghent
Maps are available for inspection at 107 Chapman Street, Ghent, MN 56239.
City of Lynd
Maps are available for inspection at 111 West Railroad, Lynd, MN 56157.
City of Marshall
Maps are available for inspection at 344 West Main Street, Marshall, MN 56258.
City of Minneota
Maps are available for inspection at 129 East 1st Street, Minneota, MN 56264.
City of Russell
Maps are available for inspection at 106 River Street, Russell, MN 56169.
Unincorporated Areas of Lyon County
Maps are available for inspection at 607 West Main Street, Marshall, MN 56258.
Anson County, North Carolina, and Incorporated Areas
Canal Branch | At the confluence with Palmetto Branch | None | +217 | Town of Ansonville.
| Approximately 80 feet upstream of Threadgill Street | None | +310
* National Geodetic Vertical Datum.
# Depth in feet above ground.
+ North American Vertical Datum.
Send comments to William R. Blanton, Jr., Chief, Engineering Management Section, Mitigation Directorate, Federal Emergency Management Agency, 500 C Street, SW., Washington, DC 20472.
ADDRESSES
Town of Ansonville
Maps are available for inspection at Ansonville Town Hall, 8778 U.S. Highway 52, Ansonville, NC.
Buncombe County, North Carolina and Incorporated Areas
Avery Creek | Approximately 0.5 mile upstream of the confluence with the French Broad River | +2,050 | +2,051 | Unincorporated Areas of Buncombe County.
| Approximately 0.5 mile upstream of Misty Valley Parkway | None | +2,100
Beaverdam Creek (into French Broad River) Tributary 1 | Approximately 900 feet upstream of Hillcrest Road | None | +2,108 | Unincorporated Areas of Buncombe County, Town of Woodfin.
| Approximately 340 feet upstream of Baird Cove Road (State Road 2088) | None | +2,348
Beaverdam Creek (into South Hominy Creek) | At the confluence with South Hominy Creek | None | +2,107 | Unincorporated Areas of Buncombe County.
| Approximately 50 feet downstream of Wise Road (State Road 3467) | None | +2,270
Beaverdam Creek (into South Hominy Creek) Tributary | At the confluence with Beaverdam Creek (into South Hominy Creek) | None | +2,214 | Unincorporated Areas of Buncombe County.
| Approximately 0.6 mile upstream of the confluence with Beaverdam Creek (into South Hominy Creek) | None | +2,250
Bee Branch | At the confluence with Willow Creek | None | +2,281 | Unincorporated Areas of Buncombe County.
| Approximately 50 feet upstream of Bee Branch Road | None | +2,418
Beetree Creek | At the confluence with Swannanoa River | +2,146 | +2,148 | Unincorporated Areas of Buncombe County.
| Approximately 0.9 mile upstream of Bee Tree Road (State Road 2428) | None | +2,682
Bent Creek | Approximately 0.4 mile upstream of the confluence with French Broad River | +2,018 | +2,019 | Unincorporated Areas of Buncombe County.
| Approximately 0.6 mile upstream of Blue Ridge Parkway | None | +2,031
Bill Moore Creek | Approximately 900 feet upstream of the confluence with Hominy Creek | +2,068 | +2,069 | Unincorporated Areas of Buncombe County, City of Asheville.
| Approximately 110 feet upstream of Reeves Cove Road (State Road 3439) | None | +2,160 |
Broad River | The Buncombe/Henderson County boundary | None | +1,719 | Unincorporated Areas of Buncombe County.
| Approximately 0.3 mile upstream of NC Highway 9 | None | +2,592 |
Brush Creek | At the confluence with Cane Creek | None | +2,164 | Unincorporated Areas of Buncombe County.
| Approximately 220 feet upstream of Dotson Cove Road | None | +2,511 |
Bull Creek | At the confluence with Swannanoa River | +2,108 | +2,109 | Unincorporated Areas of Buncombe County.
| Approximately 1,260 feet upstream of the confluence with the Swannanoa River | +2,110 | +2,109 |
Camp Branch | At the confluence with Swannanoa River | +2,314 | +2,315 | Town of Black Mountain.
| Approximately 660 feet upstream of Camp Branch Road | None | +2,526 |
Cane Creek | Approximately 0.5 mile upstream of the confluence with the French Broad River | None | +2,061 | Unincorporated Areas of Buncombe County, City of Asheville.
| Approximately 1,510 feet upstream of the confluence with Garren Creek | None | +2,309 |
Cane Creek (into Hominy Creek) | Approximately 0.3 mile upstream of the confluence with Hominy Creek | +2,008 | +2,009 | City of Asheville.
| Approximately 1,490 feet upstream of Sand Hill Road | None | +2,011 |
Curtis Creek | At the confluence with South Hominy Creek | None | +2,244 | Unincorporated Areas of Buncombe County.
| Approximately 20 feet upstream of Curtis Creek Road (State Road 1113) | None | +2,383 |
Dick Branch | At the confluence with Flat Creek (into French Broad River) | None | +1,940 | Unincorporated Areas of Buncombe County.
| Approximately 240 feet upstream of Flat Creek Church Road (State Road 1764) | None | +1,962 |
Dillingham Creek | Just upstream of Dillingham Road (State Road 2173) | None | +2,273 | Unincorporated Areas of Buncombe County.
| Approximately 40 feet upstream of Dillingham Road (State Road 2173) | None | +2,545 |
Dingle Creek | Approximately 0.2 mile upstream of the confluence with French Broad River | +2,007 | +2,008 | Unincorporated Areas of Buncombe County, City of Asheville.
| Approximately 1,660 feet upstream of Ballantree Drive | None | +2,631 |
Dix Creek | At the confluence with Newfound Creek | None | +1,929 | Unincorporated Areas of Buncombe County.
| Approximately 900 feet upstream of Old Leicester Highway (State Road 1002) | None | +2,026 |
Eller Cove | At the confluence with Reems Creek | None | +2,078 | Town of Weaverville.
| Approximately 40 feet upstream of Eller Hollow Road (State Road 2104) | None | +2,172 |
Emma Branch | Approximately 300 feet upstream of the confluence with Smith Mill Creek | None | +1,977 | Unincorporated Areas of Buncombe County, City of Asheville.
| Approximately 0.7 mile upstream of Eliada Home Road | None | +2,299
Tributary 2 | At the confluence with Emma Branch | None | +2,069 | City of Asheville.
| Approximately 0.5 mile upstream of Brickyard Road | None | +2,309 |
Flat Creek | At the confluence with Broad River | None | +1,946 | Unincorporated Areas of Buncombe County.
| Approximately 1.1 miles upstream of the confluence with the Broad River | None | +2,066 |
Flat Creek (into French Broad River) | At NC Highway 251 | None | +1,770 | Unincorporated Areas of Buncombe County.
| Approximately 1,870 feet upstream of Chambers Road | None | +2,205 |
Flat Creek (into Swannanoa River) | At the confluence with Swannanoa River | +2,356 | +2,362 | Town of Black Mountain, Town of Montreat.
| Just downstream of Kentucky Road | None | +2,686 |
Tributary 1 | At the confluence with Flat Creek (into Swannanoa River) | +2,380 | +2,379 | Town of Black Mountain.
| Approximately 830 feet upstream of NC Highway 9 | None | +2,458 |
Fourmile Branch | Approximately 2,000 feet upstream of the confluence with French Broad River | +2,001 | +2,002 | Unincorporated Areas of Buncombe County, City of Asheville, Town of Biltmore Forest.
| Approximately 90 feet downstream of U.S. Highway 25 | None | +2,193 |
French Broad River Tributary 149 | At the confluence with French Broad River | None | +2,046 | Unincorporated Areas of Buncombe County.
| Approximately 1,420 feet upstream of River Glen Drive | None | +2,192 |
Gap Creek | At the confluence with Cane Creek | None | +2,163 | Unincorporated Areas of Buncombe County.
| Approximately 210 feet upstream of Windsong Drive | None | +2,359 |
Garren Creek | At the confluence with Cane Creek | None | +2,294 | Unincorporated Areas of Buncombe County.
| Approximately 250 feet upstream of Bleeker Lane | None | +2,382 |
Gashes Creek | At the confluence with Swannanoa River | +2,021 | +2,023 | Unincorporated Areas of Buncombe County, City of Asheville.
| Approximately 1,680 feet upstream of U.S. Highway 74 | None | +2,225 |
George Branch | At the confluence with Hominy Creek | None | +2,178 | Unincorporated Areas of Buncombe County.
| Approximately 400 feet upstream of Curtis Farm Road (State Road 1101) | None | +2,208 |
Gill Branch | Approximately 50 feet upstream of the confluence with Reems Creek | +1,965 | +1,966 | Town of Weaverville.
| Approximately 100 feet upstream of Weaver Boulevard (State Road 1725) | None | +2,111 |
Glady Fork | At the confluence with South Hominy Creek | None | +2,292 | Unincorporated Areas of Buncombe County.
| Approximately 1,360 feet upstream of Black Oak Cove Road (State Road 3464) | None | +2,362 |
Gouches Branch | Approximately 1,000 feet upstream of the confluence with Newfound Creek | +1,976 | +1,977 | Unincorporated Areas of Buncombe County.
| Approximately 480 feet upstream of Gouches Branch Road (State Road 1377) | None | +2,012 |
Grassy Branch | At the confluence with Swannanoa River | +2,054 | +2,057 | Unincorporated Areas of Buncombe County, City of Asheville.
| Approximately 0.4 mile upstream of Upper Grassy Branch Road (State Road 2400) | None | +2,229
Gregg Branch | Approximately 25 feet upstream of the confluence with Beetree Creek | +2,242 | +2,243 | Unincorporated Areas of Buncombe County.
| Approximately 1,080 feet upstream of Old Bee Tree Road (State Road 2418) | None | +2,304
Haw Creek | At the confluence with Swannanoa River | +2,007 | +2,010 | City of Asheville.
| Approximately 1,800 feet upstream of the confluence with the Swannanoa River | +2,012 | +2,013
Herron Cove Branch | Approximately 50 feet upstream of the confluence with Reems Creek | None | +2,032 | Town of Weaverville.
| Approximately 230 feet upstream of Fontana Drive | None | +2,086
Hogeye Branch | At the confluence with Sandy Mush Creek | None | +2,184 | Unincorporated Areas of Buncombe County.
| Approximately 0.6 mile upstream of Hogeye Road (State Road 1393) | None | +2,314
Hominy Creek | Just upstream of Morgan Cove Road (State Road 1141) | None | +2,178 | Unincorporated Areas of Buncombe County.
| Approximately 150 feet upstream of the Buncombe/Haywood County boundary | None | +2,252
Tributary 21 | Approximately 100 feet upstream of the confluence with Hominy Creek | +2,098 | +2,099 | Unincorporated Areas of Buncombe County.
| Approximately 1,520 feet upstream of Lindsey Road (State Road 1128) | None | +2,107
Tributary 25 | Approximately 75 feet upstream of the confluence with Hominy Creek | None | +2,152 | Unincorporated Areas of Buncombe County.
| Approximately 780 feet upstream of North Morgan Branch Road (State Road 1140) | None | +2,191
Ivy Creek | At the Buncombe/Madison County boundary | None | +1,908 | Unincorporated Areas of Buncombe County.
| Approximately 550 feet upstream of NC Highway 197 | +2,112 | +2,111
Killian Branch | Approximately 250 feet upstream of the confluence with Beaverdam Creek (into French Broad River) | None | +2,120 | City of Asheville.
| Approximately 1.0 mile upstream of Inglewood Road | None | +2,288
Lee Creek | Approximately 320 feet upstream of the confluence with French Broad River | None | +1,890 | Unincorporated Areas of Buncombe County.
| Approximately 0.5 mile upstream of Roberts Road (State Road 1314) | None | +2,362
Little Piney Branch | At the confluence with Flat Creek (into Swannanoa River) | None | +2,558 | Town of Montreat.
| Approximately 1,810 feet upstream of Harmony Road Extension | None | +3,351
Long Branch (into Beetree Creek) | At the confluence with Beetree Creek | None | +2,299 | Unincorporated Areas of Buncombe County.
| Approximately 0.5 mile upstream of Long Branch Road (State Road 2429) | None | +3,083
Long Branch (into Sandy Mush Creek) | At the confluence with Sandy Mush Creek | None | +2,397 | Unincorporated Areas of Buncombe County.
| Approximately 90 feet upstream of Boyd Cove Road (State Road 1398) | None | +2,530
Maney Branch | At the confluence with Reems Creek | None | +2,395 | Unincorporated Areas of Buncombe County.
| Approximately 220 feet upstream of Beech Spring Drive | None | +2,460
Martin Branch | At the confluence with Turkey Creek | None | +1,976 | Unincorporated Areas of Buncombe County.
| Approximately 1,250 feet upstream of Martin Branch Road (State Road 1610) | None | +2,018
Martin Creek | At the confluence with North Fork Ivy Creek | None | +2,378 | Unincorporated Areas of Buncombe County.
| Approximately 1,460 feet upstream of Martins Creek Road (State Road 2027) | None | +2,506
McKinnish Branch | At the confluence with Smith Mill Creek | +2,104 | +2,105 | Unincorporated Areas of Buncombe County, City of Asheville.
| Approximately 150 feet upstream of McKinnish Cove Road (State Road 1320) | None | +2,195
Moore Creek | Just upstream of Monte Vista Road (State Road 1224) | None | +2,202 | Unincorporated Areas of Buncombe County.
| Approximately 0.5 mile upstream of Holcombe Cove Road (State Road 1236) | None | +2,380
Morgan Branch (into Ivy Creek) | At the confluence with Ivy Creek | None | +2,059 | Unincorporated Areas of Buncombe County.
| Approximately 770 feet upstream of Arrowood Road (State Road 2155) | None | +2,072
Morgan Branch (into South Hominy Creek) | At the confluence with South Hominy Creek | None | +2,235 | Unincorporated Areas of Buncombe County.
| Approximately 830 feet upstream of Blackfoot Trail | None | +2,276
Newfound Creek | Approximately 75 feet upstream of the confluence with French Broad River | None | +1,876 | Unincorporated Areas of Buncombe County.
| Approximately 90 feet upstream of Newfound Road (State Road 1104) | None | +2,388
Tributary 17 | At the confluence with Newfound Creek | None | +1,955 | Unincorporated Areas of Buncombe County.
| Approximately 330 feet upstream of Sunview Drive | None | +1,958
Tributary 26 | Approximately 400 feet upstream of the confluence with Newfound Creek | +2,011 | +2,012 | Unincorporated Areas of Buncombe County.
| Approximately 620 feet upstream of Old Newfound Road (State Road 1378) | None | +2,023
North Fork Ivy Creek | Approximately 50 feet upstream of the confluence with Dillingham Creek and Ivy Creek | +2,185 | +2,186 | Unincorporated Areas of Buncombe County.
| Approximately 100 feet downstream of Burleson Branch Road (State Road 2079) | None | +2,533
North Fork Swannanoa River | At the confluence with Swannanoa River | +2,232 | +2,231 | Unincorporated Areas of Buncombe County, Town of Black Mountain.
| Approximately 3.0 miles upstream of North Fork Right Fork Road (State Road 2476) | None | +2,762
North Turkey Creek | At the confluence with South Turkey Creek and Turkey Creek | None | +2,027 | Unincorporated Areas of Buncombe County.
| Approximately 0.7 mile upstream of Bryant Lane | None | +2,234
Ox Creek | At the confluence with Reems Creek | None | +2,182 | Unincorporated Areas of Buncombe County.
| Approximately 30 feet upstream of Ox Creek Road (State Road 2109) | None | +2,420
Tributary 1 | At the confluence with Ox Creek | None | +2,382 | Unincorporated Areas of Buncombe County.
| Approximately 620 feet upstream of the confluence with Ox Creek | None | +2,402
Parker Branch | At the confluence with Newfound Creek | None | +1,939 | Unincorporated Areas of Buncombe County.
| Approximately 1,150 feet upstream of the confluence with Newfound Creek | None | +1,944
Pole Creek | Just upstream of Dogwood Road (State Road 1220) | None | +2,100 | Unincorporated Areas of Buncombe County, City of Asheville.
| Approximately 270 feet upstream of Milksick Cove Road (State Road 1215) | None | +2,301
Potato Branch | At the confluence with South Turkey Creek | None | +2,318 | Unincorporated Areas of Buncombe County.
| Approximately 940 feet upstream of the confluence with South Turkey Creek | None | +2,335
Poverty Branch | At the confluence with North Fork Ivy Creek | None | +2,210 | Unincorporated Areas of Buncombe County.
| Approximately 0.9 mile upstream of the confluence with North Fork Ivy Creek | None | +2,293
Puncheon Branch | At the confluence with Flat Creek (into Swannanoa River) | None | +2,617 | Town of Montreat.
| Approximately 1,350 feet upstream of Oklahoma Road | None | +3,296
Ragsdale Creek | Approximately 0.8 mile upstream of Sand Hill Road (State Road 3412) | None | +2,064 | Unincorporated Areas of Buncombe County, City of Asheville.
| Approximately 40 feet upstream of Willow Pond Lane | None | +2,397
Reed Creek | At Murdock Avenue | None | +2,087 | City of Asheville.
| Approximately 360 feet downstream of Grovewood Road | None | +2,219
Tributary 2 | Approximately 320 feet upstream of the confluence with Reed Creek | +2,009 | +2,010 | City of Asheville.
| Approximately 280 feet upstream of Broadway Street | None | +2,017
Tributary 6 | Approximately 225 feet upstream of the confluence with Reed Creek | None | +2,088 | City of Asheville.
| Approximately 140 feet upstream of Hillside Street | None | +2,141
Reems Creek | At NC Highway 251 | None | +1,799 | Unincorporated Areas of Buncombe County, Town of Weaverville.
| Approximately 90 feet downstream of Blackberry Inn Road (State Road 2115) | None | +2,526
Reeves Creek | At the confluence with Reems Creek | None | +2,262 | Unincorporated Areas of Buncombe County.
| Approximately 0.4 mile upstream of Lula Cove Road | None | +2,392
Robinson Creek | At the confluence with Cane Creek | +2,098 | +2,094 | Unincorporated Areas of Buncombe County.
| Approximately 170 feet upstream of Concord Road (State Road 3150) | None | +2,264
Rock Creek | At the confluence with Broad River | None | +2,089 | Unincorporated Areas of Buncombe County.
| Approximately 1,230 feet upstream of Press Owenby Drive | None | +2,582
Ross Creek | At the confluence with Swannanoa River | +2,002 | +2,004 | City of Asheville.
| Approximately 20 feet downstream of Vance Gap Road | None | +2,347
Round Hill Branch | Approximately 500 feet upstream of the confluence with Newfound Creek | +2,043 | +2,046 | Unincorporated Areas of Buncombe County.
| Approximately 860 feet upstream of Green Valley Road (State Road 1383) | None | +2,138
Sams Branch | At the confluence with South Hominy Creek | None | +2,375 | Unincorporated Areas of Buncombe County.
| Approximately 1,220 feet upstream of Falling Brook Drive | None | +2,549
Sandy Mush Creek | Approximately 400 feet upstream of the confluence with French Broad River | None | +1,728 | Unincorporated Areas of Buncombe County.
| Approximately 840 feet upstream of Garrett Cove Road (State Road 1392) | None | +2,635
Saw Branch | At the confluence with South Hominy Creek | None | +2,412 | Unincorporated Areas of Buncombe County.
| Approximately 1,350 feet upstream of the confluence with South Hominy Creek | None | +2,476
Sluder Branch | At the confluence with Newfound Creek | None | +1,964 | Unincorporated Areas of Buncombe County.
| Approximately 1,580 feet upstream of Branchview Drive | None | +2,002
Smith Mill Creek | Approximately 950 feet upstream of the confluence with French Broad River | +1,978 | +1,977 | Unincorporated Areas of Buncombe County, City of Asheville.
| Approximately 0.4 mile upstream of Johnston School Road (State Road 1319) | None | +2,201
South Hominy Creek | Approximately 220 feet upstream of the confluence with Hominy Creek | +2,101 | +2,102 | Unincorporated Areas of Buncombe County.
| Approximately 400 feet upstream of Davis Creek Road (State Road 1103) | None | +2,560
Tributary 2 | At the confluence with South Hominy Creek | None | +2,150 | Unincorporated Areas of Buncombe County.
| Approximately 40 feet upstream of Bailey Road (State Road 3452) | None | +2,181
South Turkey Creek | At the confluence with North Turkey Creek and Turkey Creek | None | +2,027 | Unincorporated Areas of Buncombe County.
| Approximately 10 feet downstream of South Turkey Creek Road (State Road 1384) | None | +2,346
Stanfield Branch | At the confluence with Dick Branch | None | +1,952 | Unincorporated Areas of Buncombe County.
| Approximately 50 feet upstream of the confluence of Stanfield Branch Tributary 2 | None | +2,083
Tributary 2 | At the confluence with Stanfield Branch | None | +2,081 | Unincorporated Areas of Buncombe County.
| Approximately 1,620 feet upstream of the confluence with Stanfield Branch | None | +2,127
Stony Fork | At the confluence with South Hominy Creek | None | +2,312 | Unincorporated Areas of Buncombe County.
| Approximately 50 feet upstream of NC Highway 151 | None | +2,613
Sugar Cove | At the confluence with Reems Creek | None | +2,299 | Unincorporated Areas of Buncombe County.
| Approximately 540 feet upstream of Sugar Cove Road (State Road 2114) | None | +2,435
Sugar Creek | At the confluence with Sandy Mush Creek | None | +2,162 | Unincorporated Areas of Buncombe County.
| Approximately 140 feet upstream of Andy's Branch | None | +2,247
Swannanoa River | Approximately 1,000 feet upstream of the confluence with French Broad River | +1,990 | +1,991 | Unincorporated Areas of Buncombe County, City of Asheville, Town of Biltmore Forest, Town of Black Mountain.
| Approximately 1,680 feet upstream of Dunsmore Avenue (State Road 2531) | None | +2,518
Tributary 24 | At the confluence with Swannanoa River | None | +2,182 | Unincorporated Areas of Buncombe County.
| Approximately 0.8 mile upstream of Patton Hill Road | None | +2,403
Tributary 26 | At the confluence with Swannanoa River | None | +2,198 | Unincorporated Areas of Buncombe County.
| Approximately 110 feet upstream of Druid Hill Road (State Road 2445) | None | +2,456
Tributary 28 | At the confluence with Swannanoa River | None | +2,206 | Unincorporated Areas of Buncombe County.
| Approximately 0.8 mile upstream of the confluence of Swannanoa River Tributary of Tributary 28 | None | +2,447
Tributary 33 | At the confluence with Swannanoa River | None | +2,242 | Unincorporated Areas of Buncombe County, Town of Black Mountain.
| Approximately 40 feet downstream of Wagon Trail | None | +2,331
Tributary 35 | At the confluence with Swannanoa River | +2,366 | +2,365 | Town of Black Mountain.
| Approximately 710 feet upstream of Avena Road | None | +2,432
Tributary of Tributary 26 | At the confluence with Swannanoa River Tributary 26 | None | +2,270 | Unincorporated Areas of Buncombe County.
| Approximately 110 feet upstream of Druid Hill Road (State Road 2445) | None | +2,462
Tributary of Tributary 28 | At the confluence with Swannanoa River Tributary 28 | None | +2,273 | Unincorporated Areas of Buncombe County.
| Approximately 190 feet upstream of Woodland Drive (State Road 2460) | None | +2,642
Tributary of Tributary 33 | At the confluence with Swannanoa River Tributary 33 | None | +2,285 | Unincorporated Areas of Buncombe County, Town of Black Mountain.
| Approximately 0.4 mile upstream of the confluence with Swannanoa River Tributary 33 | None | +2,329
Sweeten Creek | At the confluence with Swannanoa River | +1,998 | +1,997 | City of Asheville.
| Approximately 1,800 feet upstream of U.S. Highway 25 | None | +2,299
Tributary 2 | At the confluence with Sweeten Creek | +2,009 | +2,010 | City of Asheville.
| Approximately 60 feet upstream of Shady Oak Drive | None | +2,069
Tributary 3 | At the confluence with Sweeten Creek | +2,017 | +2,018 | City of Asheville.
| Approximately 1,370 feet upstream of Forest Street | None | +2,206
Taylor Creek | The Buncombe/Rutherford County boundary | None | +2,000 | Unincorporated Areas of Buncombe County.
| Approximately 1,000 feet upstream of the Buncombe/Rutherford County boundary | None | +2,034
Tomahawk Branch | At the confluence with Swannanoa River | +2,284 | +2,287 | Town of Black Mountain.
| Approximately 490 feet upstream of Hiawassee Avenue (State Road 2495) | None | +2,383
Town Branch Creek | At the confluence with Dillingham Creek | None | +2,436 | Unincorporated Areas of Buncombe County
| Approximately 190 feet upstream of Martin Lane (State Road 2165) | None | +2,768
Trantham Creek | At the confluence with Cane Creek | None | +2,265 | Unincorporated Areas of Buncombe County.
| Approximately 960 feet upstream of Ivy Cove Road | None | +2,391
Trent Branch | Approximately 300 feet upstream of the confluence with Ragsdale Creek | None | +2,024 | City of Asheville.
| Approximately 0.5 mile upstream of I-40 | None | +2,064
Tributary to Camp Branch | At the confluence with Camp Branch | +2,346 | +2,345 | Unincorporated Areas of Buncombe County, Town of Black Mountain.
| Approximately 1,060 feet upstream of NC Highway 9 | None | +2,477
Tributary to Tributary to Camp Branch | At the confluence with Tributary to Camp Branch | None | +2,363 | Unincorporated Areas of Buncombe County, Town of Black Mountain.
| Approximately 590 feet upstream of Settings Boulevard | None | +2,517
Turkey Creek | At the confluence with Sandy Mush Creek | None | +1,772 | Unincorporated Areas of Buncombe County.
| At the confluence with North Turkey Creek and South Turkey Creek | None | +2,027
Warren Creek | At the confluence with South Hominy Creek | None | +2,304 | Unincorporated Areas of Buncombe County.
| Approximately 1,860 feet upstream of the confluence with South Hominy Creek | None | +2,336
Webb Branch | Approximately 900 feet upstream of the confluence with Hominy Creek | None | +2,142 | Unincorporated Areas of Buncombe County.
| Approximately 0.4 mile upstream of U.S. Highway 25/19 | None | +2,203
Williams Branch | At the confluence with Dillingham Creek | None | +2,285 | Unincorporated Areas of Buncombe County.
| Approximately 1.3 miles upstream of Williams Branch Road (State Road 2174) | None | +3,133
Willow Creek | At the confluence with Sandy Mush Creek | None | +2,266 | Unincorporated Areas of Buncombe County.
| Approximately 80 feet upstream of Willow Cove Road (State Road 1395) | None | +2,544
* National Geodetic Vertical Datum.
# Depth in feet above ground.
+ North American Vertical Datum.
Send comments to William R. Blanton, Jr., Chief, Engineering Management Section, Mitigation Directorate, Federal Emergency Management Agency, 500 C Street SW., Washington, DC 20472.
ADDRESSES
City of Asheville
Maps are available for inspection at Asheville City Hall, 70 Court Plaza, Asheville, NC.
Town of Biltmore Forest
Maps are available for inspection at Biltmore Forest Town Hall, 355 Vanderbilt Road, Biltmore Forest, NC.
Town of Black Mountain
Maps are available for inspection at Black Mountain Town Hall, 102 Montreat Road, Black Mountain, NC.
Town of Montreat
Maps are available for inspection at Montreat Town Hall, 96 Rainbow Terrace, Montreat, NC.
Town of Weaverville
Maps are available for inspection at Weaverville Town Hall, 30 South Main Street, Weaverville, NC.
Town of Woodfin
Maps are available for inspection at Woodfin Town Hall, 90 Elk Mountain Road, Woodfin, NC.
Unincorporated Areas of Buncombe County
Maps are available for inspection at Buncombe County Planning Department, 46 Valley Street, Asheville, NC.
Davidson County, North Carolina, and Incorporated Areas
Abbotts Creek | At the confluence with Yadkin River | None | +625 | Unincorporated Areas of Davidson County, City of Lexington.
| Approximately 0.8 mile upstream of the confluence of Pounder Fork | None | +629
Tributary 1 | Approximately 200 feet downstream of Cascade Drive | +767 | +768 | Unincorporated Areas of Davidson County.
| Approximately 1,140 feet upstream of Cascade Drive | None | +790
Alls Fork | Approximately 600 feet downstream of the Davidson/Montgomery County boundary | None | +511 | Unincorporated Areas of Davidson County.
| Approximately 670 feet upstream of Badin Lake Road (State Road 2550) | None | +512
Battle Branch | At the confluence with Abbotts Creek | None | +625 | Unincorporated Areas of Davidson County.
| Approximately 0.9 mile upstream of Silver Hill Road (State Road 2315) | None | +722
Beaverdam Creek | At the Davidson/Montgomery County boundary | None | +511 | Unincorporated Areas of Davidson County.
| Approximately 1,080 feet upstream of Badin Lake Road (State Road 2550) | None | +515
Brier Creek | At the Davidson/Randolph County boundary | None | +547 | Unincorporated Areas of Davidson County.
| At the confluence of Conrad Hill Branch | None | +573
Tributary | At the confluence with Brier Creek | None | +548 | Unincorporated Areas of Davidson County.
| Approximately 190 feet upstream of Denton Road (State Road 2183) | None | +784
Brushy Fork | Approximately 950 feet upstream of the confluence with Abbotts Creek | None | +689 | Unincorporated Areas of Davidson County, Town of Wallburg.
| At the Davidson/Forsyth County boundary | None | +850
Tributary 2 | At the confluence with Brushy Fork | None | +749 | Unincorporated Areas of Davidson County.
| Approximately 1.2 miles upstream of the confluence with Brushy Fork | None | +791
Buck Branch | At the confluence with Brushy Fork | None | +697 | Unincorporated Areas of Davidson County.
| Approximately 310 feet upstream of Hunter Road (State Road 1814) | None | +748
Tributary 1 | At the confluence with Buck Branch | None | +705 | Unincorporated Areas of Davidson County.
| Approximately 0.6 mile upstream of the confluence with Buck Branch | None | +727
Cabin Creek | At the confluence with Yadkin River | None | +576 | Unincorporated Areas of Davidson County.
| Approximately 1,840 feet upstream of NC Highway 49 | None | +753
Cain Creek | Approximately 0.8 mile upstream of the confluence with Leonard Creek | None | +779 | Unincorporated Areas of Davidson County.
| Approximately 1.1 miles upstream of the confluence with Leonard Creek | None | +793
Charles Creek | Approximately 450 feet upstream of the confluence with Hamby Creek | None | +773 | City of Thomasville.
| Approximately 220 feet downstream of Fairgrove Road | None | +827
Churchland Creek | At the confluence with Potts Creek and South Potts Creek | None | +695 | Unincorporated Areas of Davidson County.
| Approximately 900 feet upstream of Fox Run Trail | None | +753
Conrad Hill Branch | At the confluence with Brier Creek | None | +573 | Unincorporated Areas of Davidson County.
| Approximately 460 feet upstream of Railroad | None | +805
Cool Branch | At the confluence with Brushy Fork | None | +717 | Unincorporated Areas of Davidson County.
| Approximately 200 feet upstream of Friendship-Ledford Road (State Road 1700) | None | +848
Dunkers Creek | At the confluence with Dykers Creek | None | +682 | Unincorporated Areas of Davidson County.
| Approximately 130 feet upstream of Marshall Byerly Road (State Road 1442) | None | +712
Dykers Creek | At the confluence with Yadkin River | None | +673 | Unincorporated Areas of Davidson County.
| Approximately 550 feet upstream of the confluence with Dykers Creek Tributary 3 | None | +701
Tributary | At the confluence with Dykers Creek | None | +694 | Unincorporated Areas of Davidson County.
| Approximately 1.2 miles upstream of U.S. Highway 64 | None | +778 |
Tributary 3 | At the confluence with Dykers Creek | None | +699 | Unincorporated Areas of Davidson County.
| Approximately 0.7 mile upstream of U.S. Highway 64 | None | +739
Ellis Creek | At the confluence with Yadkin River | None | +571 | Unincorporated Areas of Davidson County.
| Approximately 670 feet upstream of Mose Glover Road (State Road 2540) | None | +653
Tributary | At the confluence with Ellis Creek | None | +571 | Unincorporated Areas of Davidson County.
| Approximately 0.5 mile upstream of Newsome Road (State Road 2538) | None | +666
Farabee Creek | At the confluence with Yadkin River | None | +650 | Unincorporated Areas of Davidson County.
| At the confluence of Frost Creek and Swan Creek | None | +650
Flat Swamp Creek | At the confluence with Yadkin River | None | +625 | Unincorporated Areas of Davidson County.
| Approximately 1.1 miles upstream of New Cut Road (State Road 2262) | None | +813
Fourmile Branch | At the confluence with Flat Swamp Creek | None | +625 | Unincorporated Areas of Davidson County.
| Approximately 470 feet upstream of East Old U.S. 64 Highway (State Road 2205) | None | +763
Frost Creek | At the confluence of Farabee Creek and Swan Creek | None | +650 | Unincorporated Areas of Davidson County.
| Approximately 0.7 mile upstream of Henry Lomax Road (State Road 1163) | None | +676
Fryes Creek | At the confluence with Muddy Creek | None | +689 | Unincorporated Areas of Davidson County.
| Approximately 1,700 feet upstream of Payne Road (State Road 1505) | +754 | +755
Gobble Creek | At the confluence with Yadkin River | None | +672 | Unincorporated Areas of Davidson County.
| Approximately 1.0 mile upstream of Andrew Sink Road (State Road 1190) | None | +774
Hamby Creek | Approximately 350 feet upstream of the confluence of Warner Creek | None | +816 | Unincorporated Areas of Davidson County, City of Thomasville.
| Approximately 1,000 feet upstream of Liberty Drive | None | +831
Tributary | Approximately 1,000 feet downstream of Upper Lake Road (State Road 2024) | None | +672 | Unincorporated Areas of Davidson County, City of Thomasville.
| Approximately 600 feet upstream of Ford Street | None | +801
Tributary 1 | Approximately 175 feet upstream of the confluence with Hamby Creek | +735 | +736 | Unincorporated Areas of Davidson County, City of Thomasville.
| Approximately 160 feet upstream of East Holly Grove Road | None | +808
Hanks Branch | Approximately 500 feet upstream of the confluence with Hunts Fork | +701 | +702 | City of Thomasville.
| Approximately 30 feet downstream of Cox Avenue | None | +808
Hasty Creek | Approximately 10 feet downstream of Payne Road (State Road 1779) | None | +770 | Unincorporated Areas of Davidson County, City of Thomasville.
| Approximately 450 feet upstream of National Highway | None | +858
Huffmans Creek | At the confluence with Reedy Creek | None | +690 | Unincorporated Areas of Davidson County.
| Approximately 870 feet upstream of Enterprise Road (State Road 1499) | None | +761
Indian Grave Creek | Approximately 100 feet upstream of Happy Hill Road (State Road 1231) | None | +716 | Unincorporated Areas of Davidson County.
| Approximately 1.9 miles upstream of Happy Hill Road (State Road 1231) | None | +778
Jefferson Village Tributary | Approximately 50 feet upstream of the confluence with Jefferson Village Branch | +673 | +674 | Unincorporated Areas of Davidson County, City of Lexington.
| Approximately 1,800 feet upstream of the confluence with Jefferson Village Branch | +691 | +721
Jersey Creek | At the confluence with Swearing Creek | None | +626 | Unincorporated Areas of Davidson County.
| Approximately 1,150 feet upstream of Railroad | None | +734
Kennedy Mill Creek | Approximately 500 feet upstream of the confluence with Rich Fork | +704 | +705 | Unincorporated Areas of Davidson County.
| At the Davidson/Guilford County boundary | None | +801
Tributary 1 | At the confluence with Kennedy Mill Creek | None | +740 | Unincorporated Areas of Davidson County, City of Thomasville.
| At the Davidson/Guilford County boundary | None | +808
Lick Creek | At the confluence with Yadkin River | None | +576 | Unincorporated Areas of Davidson County, Town of Denton.
| Approximately 690 feet upstream of Cid Road (State Road 2318) | None | +697
Little Brushy Fork | At the confluence with Brushy Fork | None | +732 | Unincorporated Areas of Davidson County.
| Approximately 1.8 miles upstream of Tom Livengood Road (State Road 1719) | None | +861
Tributary 1 | At the confluence with Little Brushy Fork | None | +748 | Unincorporated Areas of Davidson County.
| Approximately 0.7 mile upstream of the confluence of Little Brushy Fork Tributary 1A | None | +781
Tributary 1A | At the confluence with Little Brushy Fork Tributary 1 | None | +757 | Unincorporated Areas of Davidson County.
| Approximately 2,000 feet upstream of Garden Valley Drive | None | +786
Little Uwharrie River | At the Davidson/Randolph County boundary | None | +553 | Unincorporated Areas of Davidson County.
| Approximately 110 feet upstream of the confluence with Little Uwharrie River Tributary 3 | None | +602
Tributary 10 | Approximately 20 feet downstream of the Davidson/Randolph County boundary | None | +858 | Unincorporated Areas of Davidson County.
| Approximately 20 feet upstream of the Davidson/Randolph County boundary | None | +858
Tributary 11 | Approximately 10 feet downstream of the Davidson/Randolph County boundary | None | +848 | Unincorporated Areas of Davidson County.
| Approximately 20 feet upstream of the Davidson/Randolph County boundary | None | +848
Tributary 11A | At the Davidson/Randolph County boundary | None | +876 | Unincorporated Areas of Davidson County.
| Approximately 40 feet downstream of the Davidson/Randolph County boundary | None | +876
Tributary 2 | At the confluence with Little Uwharrie River | None | +576 | Unincorporated Areas of Davidson County.
| Approximately 620 feet downstream of Underwood Drive (State Road 2157) | None | +679
Tributary 3 | At the confluence with Little Uwharrie River | None | +601 | Unincorporated Areas of Davidson County.
| Approximately 0.5 mile upstream of the confluence with the Little Uwharrie River | None | +643
Long Branch | At the confluence with Brushy Fork | None | +754 | Unincorporated Areas of Davidson County.
| Approximately 1.0 mile upstream of the confluence with Brushy Fork | None | +781
Mary Reich Creek | Approximately 70 feet downstream of the Davidson/Forsyth County boundary | None | +811 | Unincorporated Areas of Davidson County.
| At the Davidson/Forsyth County boundary | None | +811
Mill Creek | At the confluence with Yadkin River | None | +666 | Unincorporated Areas of Davidson County.
| Approximately 1.0 mile upstream of Tyro School Road (State Road 1180) | None | +740
Miller Creek | At the confluence with Muddy Creek | None | +690 | Unincorporated Areas of Davidson County.
| Approximately 250 feet upstream of North Payne Road (State Road 1510) | +810 | +811
Mountain Branch | At the Davidson/Montgomery County boundary | None | +601 | Unincorporated Areas of Davidson County.
| Approximately 60 feet upstream of the Davidson/Montgomery County boundary | None | +601
Muddy Creek | At the confluence with Yadkin River | None | +685 | Unincorporated Areas of Davidson County.
| At the Davidson/Forsyth County boundary | None | +691
North Hamby Creek | Approximately 50 feet upstream of Mason Way | None | +854 | Unincorporated Areas of Davidson County, City of Thomasville.
| Approximately 960 feet upstream of Railroad | None | +872
North Potts Creek | At the confluence with Yadkin River | None | +629 | Unincorporated Areas of Davidson County.
| Approximately 0.4 mile upstream of Sam Shape Road (State Road 1134) | +639 | +640
Oil Mill Branch | At the confluence with Brushy Fork | None | +707 | Unincorporated Areas of Davidson County.
| Approximately 800 feet upstream of Disher Road (State Road 1805) | None | +740
Potts Creek | At the confluence with South Potts Creek | None | +695 | Unincorporated Areas of Davidson County.
| Approximately 1,560 feet upstream of Ed Rickard Road (State Road 1161) | None | +719
Pounder Fork | At the confluence with Abbotts Creek | None | +625 | Unincorporated Areas of Davidson County.
| Approximately 420 feet upstream of Smith Farm Road (State Road 2015) | None | +811
Tributary | At the confluence with Pounder Fork | None | +744 | Unincorporated Areas of Davidson County.
| Approximately 150 feet downstream of Robert Beck Road (State Road 2226) | None | +780
Tributary 1 | Approximately 400 feet upstream of the confluence with Pounder Fork | None | +648 | Unincorporated Areas of Davidson County.
| Approximately 130 feet upstream of John Young Road (State Road 2246) | None | +740
Reedy Creek | At the confluence with Yadkin River | None | +682 | Unincorporated Areas of Davidson County.
| Approximately 1,250 feet upstream of George Hege Road (State Road 1504) | None | +777
Rich Fork | At the upstream side of Westover Road (State Road 1738) | None | +781 | City of High Point.
| Approximately 0.6 mile upstream of Westover Road | None | +792
Tributary 2 | Approximately 200 feet upstream of the confluence of Rich Fork Tributary 2A | None | +790 | Unincorporated Areas of Davidson County.
| Approximately 700 feet upstream of the confluence of Rich Fork Tributary 2A | None | +793
Tributary 2 | At the confluence with Rich Fork | None | +782 | City of High Point.
| At the Davidson/Guilford County boundary | None | +807
Tributary 2A | At the confluence with Rich Fork Tributary 2 | None | +788 | City of High Point.
| Approximately 900 feet upstream of the confluence with Rich Fork Tributary | None | +798
South Fork Muddy Creek | At the confluence with Muddy Creek | None | +690 | Unincorporated Areas of Davidson County.
| At the Davidson/Forsyth County boundary | None | +691
South Potts Creek | At the confluence with North Potts Creek | None | +629 | Unincorporated Areas of Davidson County.
| At the confluence of Churchland Creek and Potts Creek | None | +695
Tributary | At the confluence with South Potts Creek | +636 | +642 | Unincorporated Areas of Davidson County.
| Approximately 0.4 mile upstream of the confluence with South Potts Creek | +643 | +642
Spencer Creek | Approximately 125 feet upstream of the confluence with Hamby Creek | None | +797 | Unincorporated Areas of Davidson County, City of Thomasville.
| Approximately 0.4 mile upstream of Liberty Drive | None | +863
Spurgeon Creek | Approximately 100 feet upstream of Sells Farm Road | None | +818 | Unincorporated Areas of Davidson County.
| Approximately 230 feet upstream of Sells Farm Road | None | +819
Tributary 1 | Approximately 850 feet upstream of the confluence with Spurgeon Creek | None | +751 | Unincorporated Areas of Davidson County.
| Approximately 430 feet upstream of Willie Bodenheimer Road (State Road 1746) | None | +781
Tributary 2 | Approximately 850 feet upstream of the confluence with Spurgeon Creek | None | +781 | Unincorporated Areas of Davidson County, Town of Wallburg.
| Approximately 1,870 feet upstream of North Creekside Drive | None | +793 | Town of Wallburg.
Swan Creek | At the confluence with Farabee Creek and Frost Creek | None | +650 | Unincorporated Areas of Davidson County.
| Approximately 0.6 mile upstream of Boones Cave Road | None | +665
Swearing Creek | At the confluence with Yadkin River | None | +626 | Unincorporated Areas of Davidson County.
| Approximately 1.2 miles upstream of Will Lanier Road (State Road 1460) | None | +813
Tributary 1 | At the confluence with Swearing Creek | None | +626 | Unincorporated Areas of Davidson County.
| Approximately 0.5 mile upstream of Rockcrusher Road (State Road 1114) | None | +634
Tributary 2 | Approximately 700 feet upstream of the confluence with Swearing Creek | None | +654 | Unincorporated Areas of Davidson County, City of Lexington.
| Approximately 0.4 mile upstream of the confluence with Swearing Creek | None | +670
Tar Creek | Approximately 0.5 mile upstream of the confluence with Swearing Creek | None | +644 | Unincorporated Areas of Davidson County.
| Approximately 1.1 miles upstream of the confluence with Swearing Creek | None | +654
Ward Creek | Approximately 100 feet upstream of the confluence with Hamby Creek | None | +740 | City of Thomasville.
| Approximately 740 feet upstream of Fisher Ferry Road | None | +800
Yadkin River | Approximately 400 feet downstream of the Davidson/Montgomery County boundary | None | +566 | Unincorporated Areas of Davidson County.
| At the Davidson/Forsyth County boundary | None | +691
Tributary 2 | At the confluence with Yadkin River | None | +689 | Unincorporated Areas of Davidson County.
| Approximately 1.0 mile upstream of the confluence with Yadkin River | None | +740
* National Geodetic Vertical Datum.
# Depth in feet above ground.
+ North American Vertical Datum.
Send comments to William R. Blanton, Jr., Chief, Engineering Management Section, Mitigation Directorate, Federal Emergency Management Agency, 500 C Street SW., Washington, DC 20472.
ADDRESSES
City of High Point
Maps are available for inspection at City of High Point, 211 South Hamilton Street, High Point, NC
City of Lexington
Maps are available for inspection at City of Lexington, 28 West Center Street, Lexington, NC.
City of Thomasville
Maps are available for inspection at Thomasville City Hall, 10 Salem Street, Thomasville, NC.
Town of Denton
Maps are available for inspection at Denton Town Hall, P.O. Box 306/201 West Salisbury Street, Denton, NC.
Town of Wallburg
Maps are available for inspection at Town of Wallburg, 204 Linville Court, Kernersville, NC.
Unincorporated Areas of Davidson County
Maps are available for inspection at Davidson County Governmental Center, Planning and Zoning Department, 913 Greensboro Street, Lexington, NC.
Madison County, North Carolina, and Incorporated Areas
Anderson Branch | At the confluence with French Broad River | +1,534 | +1,535 | Unincorporated Areas of Madison County.
| Approximately 1.5 miles upstream of the confluence with French Broad River | None | +1,954
Banjo Branch | At the confluence with Gabriel Creek | +2,190 | +2,198 | Unincorporated Areas of Madison County, Town of Mars Hill.
| Approximately 800 feet upstream of Forest Street (State Road 1356) | None | +2,401
Barrett Branch | At the confluence with Little Sandymush Creek | None | +2,199 | Unincorporated Areas of Madison County.
| Approximately 900 feet upstream of the confluence with Little Sandymush Creek | None | +2,224
Big Branch | At the confluence with Little Ivy Creek | None | +2,011 | Unincorporated Areas of Madison County.
| Approximately 230 feet upstream of I-26/U.S. 19 | None | +2,223
Tributary 2 | At the confluence with Big Branch | None | +2,118 | Unincorporated Areas of Madison County, Town of Mars Hill.
| Approximately 140 feet upstream of Mountain View Road | None | +2,284
Big Laurel Creek | Approximately 400 feet upstream of the confluence with French Broad River | None | +1,393 | Unincorporated Areas of Madison County.
| Approximately 1.7 miles upstream of Watershed Road (State Road 1505) | None | +4,301
Big Pine Creek | Approximately 200 feet upstream of the confluence with French Broad River | +1,525 | +1,526 | Unincorporated Areas of Madison County.
| At the confluence of North Fork Big Pine Creek and South Fork Big Pine Creek | None | +2,481
Brush Creek | Approximately 300 feet upstream of the confluence with French Broad River | None | +1,514 | Unincorporated Areas of Madison County.
| Approximately 150 feet upstream of Upper Brush Creek Road (State Road 1143) | None | +2,075
Bull Creek | At the confluence with Ivy Creek | None | +1,817 | Unincorporated Areas of Madison County.
| At the confluence of East Fork Bull Creek and West Fork Bull Creek | None | +2,020
California Creek | At the confluence with Little Ivy Creek and Paint Creek | None | +2,099 | Unincorporated Areas of Madison County.
| Approximately 600 feet upstream of the confluence of Holcombe Branch | None | +2,665
Crooked Creek | At the confluence with Middle Fork California Creek | None | +2,226 | Unincorporated Areas of Madison County.
| Approximately 800 feet upstream of State Road 1526 | None | +2,500
Doggett Branch | At the confluence with Little Sandymush Creek | None | +2,291 | Unincorporated Areas of Madison County.
| Approximately 700 feet upstream of NC Route 63 | None | +2,392
East Fork Bull Creek | At the confluence with Bull Creek and West Fork Bull Creek | None | +2,020 | Unincorporated Areas of Madison County.
| Approximately 1,300 feet upstream of East Fork Road (State Road 1364) | None | +2,073
Fall Branch | At the confluence with Little Sandymush Creek | None | +2,248 | Unincorporated Areas of Madison County.
| Approximately 700 feet upstream of the confluence with Little Sandymush Creek | None | +2,281
Friezeland Creek | At the confluence with Spring Creek | None | +2,426 | Unincorporated Areas of Madison County.
| Approximately 1.2 miles upstream of the confluence with Spring Creek | None | +2,608
Frisby Branch | Approximately 250 feet upstream of the confluence with French Broad River | None | +1,646 | Town of Marshall.
| Approximately 1.2 miles upstream of the confluence with French Broad River | None | +1,973
Gabriel Creek | At the confluence with Ivy Creek | None | +1,899 | Unincorporated Areas of Madison County, Town of Mars Hill.
| Approximately 0.8 mile upstream of Bruce Road | None | +2,879
Tributary 2 | At the confluence with Gabriel Creek | None | +2,041 | Unincorporated Areas of Madison County, Town of Mars Hill.
| Approximately 300 feet upstream of Woodhaven Road | None | +2,192
Gilbert Branch | At the confluence with Little Sandymush Creek | None | +2,282 | Unincorporated Areas of Madison County.
| Approximately 1,200 feet upstream of the confluence with Little Sandymush Creek | None | +2,315
Holcombe Branch | At the confluence with California Creek | None | +2,633 | Unincorporated Areas of Madison County.
| Approximately 0.6 mile upstream of the confluence with California Creek | None | +2,804
Holland Creek | At the confluence with Ivy Gap Branch and Middle Fork California Creek | None | +2,395 | Unincorporated Areas of Madison County.
| Approximately 325 feet upstream of the confluence with Ivy Gap Branch and Middle Fork California Creek | None | +2,412
Ivy Creek | Approximately 400 feet upstream of the French Broad River | None | +1,681 | Unincorporated Areas of Madison County.
| Approximately 250 feet upstream of the confluence of Little Ivy Creek | None | +1,971
Ivy Gap Branch | At the confluence with Holland Creek and Middle Fork California Creek | None | +2,395 | Unincorporated Areas of Madison County .
| Approximately 270 feet upstream of the confluence with Holland Creek and Middle Fork California Creek | None | +2,405
Laurel Branch | At the confluence with Bull Creek | None | +1,844 | Unincorporated Areas of Madison County.
| Approximately 350 feet upstream of Bend of Ivy Road (State Road 1576) | None | +1,877
Little Ivy Creek | At the confluence with Ivy Creek | None | +1,970 | Unincorporated Areas of Madison County.
| At the confluence of Paint Fork and California Creek | None | +2,099
Little Laurel Creek | At the confluence with Shelton Laurel Creek | None | +1,688 | Unincorporated Areas of Madison County.
| Approximately 250 feet upstream of the confluence of Shelton Branch | None | +1,805
Little Sandymush Creek | At the confluence with Sandymush Creek | None | +2,038 | Unincorporated Areas of Madison County.
| Approximately 0.4 mile upstream of the confluence of Doggett Branch | None | +2,355
Meadow Fork of Spring Creek | At the confluence with Spring Creek | None | +1,855 | Unincorporated Areas of Madison County.
| Approximately 0.4 mile upstream of Keenerville Church Road | None | +3,189
Middle Fork California Creek | At the confluence with California Creek | None | +2,106 | Unincorporated Areas of Madison County.
| Approximately 50 feet downstream of the confluence of Ivy Gap Branch and Holland Creek | None | +2,394
Morrow Branch | At the confluence with Little Sandymush Creek | None | +2,127 | Unincorporated Areas of Madison County.
| Approximately 700 feet upstream of Austin Branch Road (State Road 1102) | None | +2,164
North Fork Big Pine Creek | At the confluence with South Fork Big Pine Creek and Big Pine Creek | None | +2,481 | Unincorporated Areas of Madison County.
| Approximately 900 feet upstream of North Fork Road (State Road 1159) | None | +2,519
Nowhere Branch | At the confluence with Bull Creek | None | +1,866 | Unincorporated Areas of Madison County.
| Approximately 700 feet upstream of the confluence of Bull Creek | None | +1,897
Paint Fork | At the confluence with California Creek and Little Ivy Creek | None | +2,099 | Unincorporated Areas of Madison County.
| Approximately 900 feet upstream of the confluence of Ray Branch | None | +2,403
Polly Branch | At the confluence with Middle Fork California Creek | None | +2,323 | Unincorporated Areas of Madison County.
| Approximately 700 feet upstream of the confluence with Middle Fork California Creek | None | +2,335
Ponder Creek | At the confluence with Middle Fork California Creek | None | +2,381 | Unincorporated Areas of Madison County.
| Approximately 900 feet upstream of the confluence with Middle Fork California Creek | None | +2,399
Puncheon Fork | At the confluence with Big Laurel Creek | None | +2,996 | Unincorporated Areas of Madison County.
| Approximately 1,300 feet upstream of Streets Gap Road (State Road 1502) | None | +4,052
Ray Branch | At the confluence with Paint Fork | None | +2,377 | Unincorporated Areas of Madison County.
| Approximately 1,200 feet upstream of the confluence with Paint Fork | None | +2,402
Sandymush Creek | Approximately 500 feet upstream of the confluence with French Broad River | None | +1,728 | Unincorporated Areas of Madison County.
| Approximately 100 feet upstream of the confluence with Little Sandymush Creek | None | +2,041
Shake Rag Branch | At the confluence with Middle Fork California Creek | None | +2,267 | Unincorporated Areas of Madison County.
| Approximately 600 feet upstream of the confluence with Middle Fork California Creek | None | +2,285
Shelton Branch | At the confluence with Little Laurel Creek | None | +1,804 | Unincorporated Areas of Madison County.
| Approximately 0.7 mile upstream of the confluence with Little Laurel Creek | None | +1,910
Shelton Laurel Creek | At the confluence with Big Laurel Creek | None | +1,629 | Unincorporated Areas of Madison County.
| At the confluence of Whiteoak Flats Branch | None | +2,339
South Fork Big Pine Creek | At the confluence with North Fork Big Pine Creek and Big Pine Creek | None | +2,481 | Unincorporated Areas of Madison County.
| Approximately 1,400 feet upstream of the confluence with North Fork Big Pine Creek and Big Pine Creek | None | +2,513
Spring Creek | Approximately 1,500 feet upstream of the confluence with French Broad River | +1,326 | +1,325 | Unincorporated Areas of Madison County, Town of Hot Springs.
| At the confluence of Bear Branch | None | +2,825
Sprinkle Creek | At the confluence with California Creek | None | +2,353 | Unincorporated Areas of Madison County.
| Approximately 1.0 mile upstream of Sprinkle Creek Road (State Road 1349) | None | +3,347
Terry Fork | At the confluence with Paint Fork | None | +2,195 | Unincorporated Areas of Madison County.
| Approximately 2,000 feet upstream of Paint Fork | None | +2,220
Tilden Metcalf Creek | At the confluence with Paint Fork | None | +2,261 | Unincorporated Areas of Madison County.
| Approximately 100 feet upstream of Metcalf Creek Loop Road (State Road 1531) | None | +2,510
West Fork Bull Creek | At the confluence with Bull Creek and East Bull Creek | None | +2,020 | Unincorporated Areas of Madison County.
| Approximately 350 feet downstream of the confluence of Cargle Branch | None | +2,194
Whiteoak Creek | At the confluence with Ivy Creek | None | +1,852 | Unincorporated Areas of Madison County.
| Approximately 0.6 mile upstream of Thomas Road (State Road 1567) | None | +2,182
Tributary 2 | At the confluence with Whiteoak Creek | None | +2,026 | Unincorporated Areas of Madison County.
| Approximately 1,100 feet upstream of the confluence with Whiteoak Creek | None | +2,043
Tributary 4 | At the confluence with Whiteoak Creek | None | +2,096 | Unincorporated Areas of Madison County.
| Approximately 1,300 feet upstream of the confluence with Whiteoak Creek | None | +2,120
Wille Metcalf Creek | At the confluence with Paint Fork | None | +2,243 | Unincorporated Areas of Madison County.
| Approximately 1,100 feet upstream of Metcalf Creek Loop (State Road 1531) | None | +2,366
* National Geodetic Vertical Datum.
# Depth in feet above ground.
+ North American Vertical Datum.
Send comments to William R. Blanton, Jr., Chief, Engineering Management Section, Mitigation Directorate, Federal Emergency Management Agency, 500 C Street, SW., Washington, DC 20472.
ADDRESSES
Town of Hot Springs
Maps are available for inspection at Hot Springs Town Hall, 168 Bridge Street, Hot Springs, NC.
Town of Mars Hill
Maps are available for inspection at Mars Hill Town Hall, 28 North Main Street, Mars Hill, NC.
Town of Marshall
Maps are available for inspection at Marshall Town Hall, 45 North Main Street, Marshall, NC.
Unincorporated Areas of Madison County
Maps are available for inspection at Madison County Planning and Zoning Office, 5707 U.S. Highway 25/70, Marshall, NC.
Transylvania County, North Carolina, and Incorporated Areas
Boylston Creek | Approximately 1,500 feet downstream of the Henderson/Transylvania County boundary | None | +2,173 | Unincorporated Areas of Transylvania County.
| Approximately 50 feet upstream of King Road (State Road 1502) | None | +2,228
Carson Creek | At the confluence with French Broad River | +2,136 | +2,137 | Unincorporated Areas of Transylvania County.
| Approximately 0.6 mile upstream of Island Ford Road (State Road 1103) | None | +2,471
Catheys Creek | Approximately 10 feet upstream of U.S. Highway 64 | +2,182 | +2,187 | Unincorporated Areas of Transylvania County, City of Brevard.
| Approximately 1.1 miles upstream of U.S. Highway 64 | None | +2,253
Davidson River | Approximately 100 feet upstream of Old Henderson Highway | +2,103 | +2,104 | Unincorporated Areas of Transylvania County, City of Brevard.
| Approximately 50 feet upstream of U.S. 64 Highway | +2,127 | +2,128
Davidson River (original channel) | The confluence with Davidson River | +2,113 | +2,117 | Unincorporated Areas of Transylvania County, City of Brevard.
| Approximately 1,000 feet upstream from the confluence of Turkey Creek | +2,123 | +2,127
Flat Creek | Approximately 100 feet upstream of the confluence with West French Broad River | None | +2,298 | Unincorporated Areas of Transylvania County.
| The confluence of North and South Flat Creek | None | +2,533
Frozen Creek | At the confluence with West Fork French Broad River | +2,234 | +2,233 | Unincorporated Areas of Transylvania County.
| Approximately 500 feet upstream of Frozen Creek Road (State Road 1143) | None | +2,361
Graham Creek | Approximately 600 feet upstream of Keystone Camp Road | None | +2,167 | Unincorporated Areas of Transylvania County, City of Brevard.
| Approximately 100 feet downstream of East Southwood Drive | None | +2,172
Hunts Branch | At the confluence with Norton Creek | +2,182 | +2,180 | Unincorporated Areas of Transylvania County, City of Brevard.
| Approximately 640 feet upstream of Probart Street (State Road 1348) | None | +2,218
Indian Creek | The confluence with Toxaway River | None | +2,186 | Unincorporated Areas of Transylvania County.
| Approximately 0.6 mile upstream of NC Highway 281 | None | +3,041
Jumping Branch | Approximately 10 feet upstream of Turnpike Road | None | +2,141 | City of Brevard.
| Approximately 30 feet downstream of Miner Street | None | +2,163
King Creek | Approximately 0.6 mile upstream of the confluence with French Broad River | +2,106 | +2,105 | Unincorporated Areas of Transylvania County, City of Brevard.
| Approximately 0.4 mile upstream of Millbrook Drive | None | +2,290
Little River | Approximately 1.3 miles upstream of Cascade Lake Road (State Road 1536) | None | +2,142 | Unincorporated Areas of Transylvania County.
| Approximately 300 feet upstream of Casey Lane | None | +2,745
Long Branch | The confluence with King Creek | +2,139 | +2,144 | Unincorporated Areas of Transylvania County, City of Brevard.
| Approximately 280 feet upstream of the confluence with King Creek | +2,143 | +2,144
Lyday Creek | The confluence with French Broad River | +2,093 | +2,097 | Unincorporated Areas of Transylvania County.
| Approximately 0.7 mile upstream of the confluence of Blythe Branch | None | +2,152
Morton Creek | At the confluence with South Fork Flat Creek | None | +2,674 | Unincorporated Areas of Transylvania County.
| Approximately 1,820 feet upstream of U.S. 64 Highway | None | +2,700
North Fork Flat Creek | At the confluence with Flat Creek and South Fork Flat Creek | None | +2,533 | Unincorporated Areas of Transylvania County.
| Approximately 1,300 feet upstream of Golden Road (State Road 1313) | None | +2,998
Norton Creek | At the confluence with Nicholson Creek | +2,127 | +2,128 | Unincorporated Areas of Transylvania County, City of Brevard.
| Approximately 700 feet upstream of Probart Street (State Road 1348) | +2,212 | +2,218
Osborne Branch | The confluence with Boylston Creek | None | +2,223 | Unincorporated Areas of Transylvania County.
| Approximately 0.7 mile upstream of the confluence with Boylston Creek | None | +2,422
Pole Bridge Branch | The confluence with Little River | None | +2,698 | Unincorporated Areas of Transylvania County.
| Approximately 900 feet upstream of the confluence with Little River | None | +2,739
South Fork Flat Creek | At the confluence with Flat Creek and North Fork Flat Creek | None | +2,533 | Unincorporated Areas of Transylvania County.
| Approximately 0.5 mile upstream of Flat Creek Valley Road (State Road 1147) | None | +2,792
South Prong Turkey Creek | At the confluence with Turkey Creek | None | +2,252 | Unincorporated Areas of Transylvania County.
| Approximately 360 feet upstream of the confluence with Turkey Creek | None | +2,269
Sutton Creek | The confluence with Boylston Creek | None | +2,228 | Unincorporated Areas of Transylvania County.
| Approximately 0.8 mile upstream of Lakeland Drive | None | +2,498
Toxaway River | Approximately 5.9 miles upstream of North Carolina/South Carolina boundary | None | +2,164 | Unincorporated Areas of Transylvania County.
| Approximately 1.0 mile upstream of Cardinal Drive West | None | +3,390
Tributary 5 | The confluence with Toxaway River | None | +2,654 | Unincorporated Areas of Transylvania County.
| Approximately 0.4 mile upstream of the confluence with Toxaway River | None | +3,021
Tributary 6 | The confluence with Toxaway River | None | +2,643 | Unincorporated Areas of Transylvania County.
| Approximately 0.5 mile upstream of the confluence with Toxaway River | None | +2,804
Turkey Creek | At the confluence with Davidson River (original channel) | +2,120 | +2,124 | Unincorporated Areas of Transylvania County, City of Brevard.
| Approximately 120 feet upstream of the confluence with South Prong Turkey Creek | None | +2,256
West Fork French Broad River | Approximately 1,600 feet upstream of U.S. Highway 64 | None | +2,247 | Unincorporated Areas of Transylvania County.
| Approximately 200 feet upstream of the confluence of Flat Creek | None | +2,307
Whitewater River | At the North Carolina/South Carolina boundary | None | +1,961 | Unincorporated Areas of Transylvania County.
| At the Transylvania/Jackson County boundary | None | +3,163
Williamson Creek | Approximately 1,000 feet upstream of Wilson Road (State Road 1540) | +2,104 | +2,105 | Unincorporated Areas of Transylvania County.
| Approximately 1,000 feet upstream of the confluence of Camp Creek | None | +2,116
Wilson Mill Creek | Approximately 1,900 feet upstream of the confluence with Catheys Creek | +2,147 | +2,148 | Unincorporated Areas of Transylvania County.
| Approximately 1,900 feet upstream of Forest Road | None | +2,398
* National Geodetic Vertical Datum.
+ North American Vertical Datum.
# Depth in feet above ground.
Send comments to William R. Blanton, Jr., Chief, Engineering Management Section, Mitigation Directorate, Federal Emergency Management Agency, 500 C Street SW., Washington, DC 20472.
ADDRESSES
City of Brevard
Maps are available for inspection at City of Brevard Planning Department, 95 West Main Street, Brevard, NC.
Unincorporated Areas of Transylvania County
Maps are available for inspection at Transylvania County Inspections Department, 98 East Morgan Street, Brevard, NC.

(Catalog of Federal Domestic Assistance No. 97.022, “Flood Insurance.”)

Dated: October 15, 2007.
David I. Maurstad,
Federal Insurance Administrator of the National Flood Insurance Program, Department of Homeland Security, Federal Emergency Management Agency.

[FR Doc. E7-21539 Filed 10-31-07; 8:45 am]

BILLING CODE 9110-12-P